DEPARTMENT OF THE INTERIOR

Bureau of Indian Affairs

Grant availability to Federally Recognized Indian Tribes for Projects Implementing Traffic Safety on Indian Reservations

AGENCY: Bureau of Indian Affairs, Interior.

ACTION: Notice.

SUMMARY: The Bureau of Indian Affairs (BIA) intends to make funds available to federally-recognized Indian tribes on an annual basis for the purpose of implementing traffic safety projects, which are designed to reduce the number of traffic crashes within Indian Country. Due to the limited funding available for this program, all projects will be reviewed and selected on a competitive basis. This notice informs Indian tribes that grant funds are available and that the information packets are forthcoming. Information packets will be distributed by the end of January of each program year to all tribal leaders on the latest Tribal Leaders List.

DATES: Requests for funds must be received by June 1 of each program year. Requests not received in the Office of the Indian Highway Safety Program by close of business on June 1 will not be considered.

ADDRESSES: Each tribe must submit their request to the Bureau of Indian Affairs, Division of Safety Management, Attention: Indian Highway Safety Program Coordinator, 505 Marquette Avenue, NW, Suite 1705, Albuquerque, NM 87102.

FOR FURTHER INFORMATION CONTACT: Tribes should direct questions concerning the grant program to Larry Archambeau, Indian Highway Safety Program Coordinator or to Charles L. Jaynes, Program Administrator, Telephone: (505) 248-5053.

SUPPLEMENTARY INFORMATION:

Background

The Federal-Aid Highway Act of 1973 (Pub. L. 93-87) provides for U.S. Department of Transportation (DOT) funding to assist Indian tribes in implementing Highway Safety projects. The projects are designed to reduce the number of traffic crashes and their resulting fatalities, injuries, and property damage within Indian reservations. All federally-recognized Indian tribes on Indian reservations are eligible to receive this assistance. All tribes receiving awards of program funds are reimbursed for costs incurred under the terms of 23 U.S.C. 402 and subsequent amendments.

Responsibilities

For purposes of application of the Act, Indian reservations are collectively considered a “State” and the Secretary of the Interior is considered the “Governor of a State.” The Secretary of the Interior delegated the authority to administer the programs throughout all the reservations in the United States to the Assistant Secretary—Indian Affairs. The Assistant Secretary—Indian Affairs further delegated the responsibility for primary administration of the Indian Highway Safety Program to the Division of Safety Management located in Albuquerque, New Mexico. The Chief, Division of Safety Management as program administrator of the Indian Highway Safety Program, has three full-time staff members to assist in program matters and provide technical assistance to the Indian tribes. It is at this level that contacts with the DOT are made with respect to program approval, funding of projects and technical assistance. The DOT, through the National Highway Traffic Safety Administration (NHTSA) and the Federal Highway Administration (FHWA), is responsible for ensuring that the Indian Highway Safety Program is carried out in accordance with 23 U.S.C. 402 and other applicable Federal statutes and regulations.

The NHTSA is responsible for the apportionment of funds to the Secretary of the Interior, review and approval of the Indian Highway Safety Plan involving NHTSA highway safety program areas and technical guidance and assistance to the BIA.

Program Areas

The Surface Transportation and Uniform Relocation Assistance Act of 1987, 23 U.S.C. 402(j), required DOT to conduct a rulemaking process to determine those programs most effective in reducing traffic crashes, injuries, and fatalities. Those program areas were determined to be national priority program areas, and include the following:

(1) NHTSA Program Areas: (a) Alcohol and Other Drug Countermeasures; (b) Police Traffic Services; (c) Occupant Protection; (d) Traffic records; (e) Emergency Medical Services; and (f) Safe Communities.

(2) FHWA Program Area: Roadway Safety.

(3) NHTSA and FHWA Program Area: Pedestrian and Bicycle Safety.

Funding Criteria

The Bureau of Indian Affairs will reimburse for eligible costs associated with the following:

(1) Alcohol and Other Drug Countermeasures. Salary and overtime (DWI enforcement officer), enforcement/education, NHTSA-approved training, approved breath-testing equipment (must be included on most recent Consumer Products List published by NHTSA), community/school alcohol traffic safety education, DWI offender education, prosecution, adjudication, and vehicle expenses.

(2) Police Traffic Services. Salary and overtime (traffic enforcement/education), traffic law enforcement/radar training, speed enforcement equipment (must be on Consumer Products List published by NHTSA), community/school education, and vehicle expenses.

(3) Motorcycle, Pedestrian, Bicycle initiatives.

(4) Occupant Protection:

(a) Child passenger safety—child car seat loaner program, car seat transportation/storage, and public information/education.

(b) Community seat belt program—salary, education/promotional materials, office expense, and NHTSA-approved Occupant Protection Usage and Enforcement (OPUE) training.

(5) Traffic Records. Salary, ADP equipment, and training.

(6) Emergency Medical Services. Training and public information/education.

(7) Roadway Safety. Traffic signs (warning, regulatory, work zone), hardware and sign posts, and Construction Zone Safety and Flagger Training.

(8) Safe Community Projects. Salary, project management, public information, law enforcement, prosecution, judicature, and data management.

Project Guidelines

The BIA will send information packets to the tribes by January of each program year. Upon receipt of the information packet, each tribe should prepare a proposed project based on the following guidelines:

(1) Program Planning. Program planning shall be based upon the highway safety problems identified and countermeasures selected by the tribe, using a Safe Community concept for the purpose of reducing traffic crash factors.

(2) Problem Identification. Highway traffic safety problems shall be identified from the best data available. This data may be found in tribal enforcement records on traffic crashes. Other sources of data include ambulance records, court and police arrest records. The problem identification process may be aided by using professional opinions of personnel in law enforcement, Indian Health Service, driver education, road engineers, education specialists, and judicial personnel. This data should accompany the funding request. Impact problems should be indicated during the identification process. An impact problem is a highway safety problem that contributes to car crashes, fatalities and/or injuries, and one that may be corrected by the application of countermeasures. Impact problems can be identified from analysis of statewide and/or tribal traffic records. The analyses should consider as a minimum: pedestrian, motorcycle, bicycle, passenger car, school bus, and truck crashes; records on problem drivers, roadside and roadway hazards, alcohol involvement, youth involvement, defective vehicle involvement, suspended or revoked driver involvement, speed involvement, child safety seat and seat belt usage. Data should accompany the funding request.

(3) Countermeasures Selection. When tribal traffic safety problems are identified, the tribe's Safe Community coalition must develop appropriate countermeasures to solve or reduce the problems. The tribe should take into account the overall cost of the countermeasures versus their possible effect on the problem.

(4) Objectives/Performance Indicators. After countermeasures selection, the objectives of the project must be expressed in clearly defined, time-framed and measurable terms.

(5) Budget Format. The activities to be funded shall be outlined in detail according to the following object groups: personnel services, travel, transportation, rent/communications, printing and reproduction, other services, equipment and training. Each object group shall be quantified; i.e., personnel activities should show number to be employed, hours to be employed, hourly rate of pay, etc. Each object group shall have sufficient detail to show what is to be procured, unit cost, quarter in which the procurement is to be made and the total cost, including any tribal contribution to the project.

(6) Evaluation Plan. Evaluation is the process of determining whether a highway safety activity should be undertaken, if it is being properly conducted, and if it has accomplished its objectives. The tribe must include in the funding request a plan explaining how the evaluation will be accomplished and identifying the criteria to be used in measuring performance.

(7) Technical Assistance. The Indian Highway Safety Program staff will be available to tribes for technical assistance in the development of tribal projects.

(8) Section 402 Project Length. Section 402 funds may not be used to fund the same project at one location or jurisdiction for more than 3 years.

(9) Certification Regarding Drug-free Workplace Requirement. Indian tribes receiving highway safety grants through the Indian Highway Safety Program must certify that they will maintain a drug-free workplace. An individual authorized to sign for the tribe or reservation must sign the certification. The Department of Transportation must receive the certification before it will release grant funds for that tribe or reservation. The certification must be submitted with the tribal Highway Safety Project proposal.

Submission Deadline

Each tribe must submit its funding request to the BIA Indian Highway Safety Program, Albuquerque, New Mexico. The request must be received by the Indian Highway Safety Program by close of business June 1 of each program year. Requests for extension to this deadline will not be granted. Modifications of the funding request received after the close of the funding period will not be considered in the review and selection processes.

Selection Criteria

Each funding request will be reviewed and evaluated by the Indian Highway Safety Program staff, Law Enforcement staff, Department of Education staff, Office of Alcohol and Substance Abuse staff, and BIA Division of Transportation staff. Each staff member will rank the projects by assigning points to four areas of consideration. The areas of consideration are: (1) Magnitude of the problem, 50 points; (2) countermeasure selection, 40 points; (3) tribal leadership and community support, 10 points; and (4) past performance, 10 points.

Notification of Selection

The tribes selected to participate will be notified by letter. Each tribe selected must include in its proposal a certification regarding drug-free workplace requirements and a duly authorized tribal resolution. The certification and resolution must be on file before grant funds for the tribe or reservation can be released.

Notification of Non-Selection

The Program Administrator will notify each tribe of non-selection. The tribe will be provided the reason for non-selection.

Uniform Administrative Requirements for Grant-in-Aid

Uniform grant administration procedures have been established on a national basis for all grant-in-aid programs by DOT/NHTSA under 49 CFR part 18, “Uniform Administrative Requirements for Grants and Cooperative Agreements to State and Local Governments.” NHTSA and FHWA have codified uniform procedures for State Highway Safety Programs in 23 CFR parts 1200, 1204 and 1205. OMB Circular A-87 and NHTSA Order 462-13A have established cost principles applicable to grants and contracts with State and local government. It is the responsibility of the Indian Highway Safety Program to establish operating procedures consistent with the applicable provisions of these rules.

Standards for Financial Management System

Tribal financial management systems must provide:

(1) Accurate, current, and complete disclosure of financial results of the Highway Safety project.

(2) Adequate record keeping.

(3) Control over and accountability for all funds and assets.

(4) Comparison of actual expenditures with budgeted amounts.

(5) Documentation of accounting records.

(6) Appropriate auditing. Highway Safety Projects will be included in the Tribal A-128 single audit requirement.

Tribes will provide a quarterly financial and program status report to the BIA Indian Highway Safety Program Coordinator, 505 Marquette, NW, Suite 1705, Albuquerque, New Mexico 87102. These reports will be submitted no later than 7 days beyond the reporting month.

Project Monitoring

During the program year, it is the responsibility of the BIA Indian Highway Safety Program to maintain a degree of project oversight, provide technical assistance as needed to assist the project in fulfilling its objectives, and assure that grant provisions are complied.

Project Evaluation

The BIA will conduct a performance evaluation for each Highway Safety project. The evaluation will measure the actual accomplishments to the planned activity. The BIA will evaluate the project on-site at the discretion of the Indian Highway Safety Program Administrator.

Dated: February 17, 2000.
Kevin Gover,
Assistant Secretary—Indian Affairs.

[FR Doc. 00-4357 Filed 2-23-00; 8:45 am]

BILLING CODE 4310-02-P